ENVIRONMENTAL PROTECTION AGENCY

[EPA-HQ-OPA-2007-0584, FRL-9762-8]

Agency Information Collection Activities; Proposed Collection; Comment Request; Oil Pollution Prevention; Spill Prevention, Control, and Countermeasure (SPCC) Plans

AGENCY: Environmental Protection Agency (EPA).

ACTION: Notice.

SUMMARY: In compliance with the Paperwork Reduction Act (PRA) (44 U.S.C. 3501 et seq.), this document announces that EPA is planning to submit a request to renew an existing approved Information Collection Request (ICR) to the Office of Management and Budget (OMB). This ICR, identified as Renewal EPA IRC 0328.16 and OMB Control No. 2050-0021, is scheduled to expire on June 30, 2013. Before submitting the ICR to OMB for review and approval, EPA is soliciting comments on specific aspects of the proposed information collection as described below.

DATES: Comments must be submitted on or before February 15, 2013.

ADDRESSES: Submit your comments, indentified by Docket ID No. EPA-HQ- OPA-2007-0584, to EPA, by one of the following methods:

(1) http://www.regulations.gov. Follow the on-line instructions for submitting comments.

(2) Email: Docket.RCRA@epa.gov, Attention Docket ID No, EPA-HQ-OPA-2007-0584

(3) Fax: 202-566-9744, Attention Docket ID No. EPA-HQ-OPA-2007-0584

(4) Mail: EPA Docket Center, (EPA/DC), Docket ID No. EPA-HQ-OPA-2007-0584, Mail Code 28221T, 1200 Pennsylvania Ave. NW., Washington, DC 20460

(5) Hand Delivery: EPA Docket Center, (EPA/DC), EPA West, Room 3334, 1301 Constitution Ave. NW., Washington, DC 20460. Attention Docket ID No. EPA-HQ-OPA-2007-0584. Such deliveries are only accepted during the Docket's normal hours of operation, and special arrangements should be made for deliveries of boxed information.

Instructions: Direct your comments to Docket ID No. EPA-HQ-OPA-2007-0584. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/dockets.

FOR FURTHER INFORMATION CONTACT: George W. Denning, Office of Emergency Management, Mail Code 5104A, Environmental Protection Agency, 1200 Pennsylvania Ave. NW., Washington, DC 20460; telephone number: (202) 564-2404; fax number: (202) 564-2625; email address: denning.george@epa.gov.

SUPPLEMENTARY INFORMATION:

How can I access the docket and/or submit comments?

EPA has established a public docket for this ICR under Docket ID No. EPA-HQ-OPA-2007-0584, which is available for online viewing at www.regulations.gov, or in person viewing at the EPA Docket Center, EPA/DC, EPA West, Room 3334, 1301 Constitution Ave. NW., Washington, DC. The EPA/DC Public Reading Room is open from 8:30 a.m. to 4:30 p.m., Monday through Friday, excluding legal holidays. The telephone number for the Reading Room is (202) 566-1744, and the telephone number to make an appointment to view the docket is (202) 566-0276.

Use www.regulations.gov to obtain a copy of the draft collection of information, submit or view public comments, access the index listing of the contents of the docket, and to access those documents in the public docket that are available electronically. Once in the system, select “search,” then key in the docket ID number identified in this document.

What information is EPA particularly interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What should I consider when I prepare my comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What information collection activity or ICR does this apply to?

Docket ID No: EPA-HQ-OPA-2007-0584

Affected entities: Entities potentially affected by this action are the owners or operators of facilities that are required to have a Spill Prevention, Control, and Countermeasure (SPCC) Plan under the Oil Pollution Prevention regulation (40 CFR Part 112). The applicability, definitions, and general requirements for all facilities and all types of oil are located in part 112.1 of the regulations and apply to any owner or operator of a non-transportation-related onshore or offshore facility engaged in drilling, producing, gathering, storing, processing, refining, transferring, distributing, using or consuming oil and oil products, which due to its location, could reasonably be expected to discharge oil into navigable waters or adjoining shorelines in quantities that may be harmful. (See 40 CFR 112.1(a) through (d) for further information about the applicability of the oil pollution prevention regulations.)

The private industry sectors subject to this action include, but are not limited, to: (1) Oil and Gas Extraction (NAICS 211); (2) Farms (NAICS 111, 112); (3) Electric Utility Plants (NAICS 2211); (4) Petroleum Refining and Related Industries (NAICS 324); (5) Chemical Manufacturing (NAICS 331, 332); (9) Other Manufacturing (NAICS 31-33); (10) Real Estate Rental and Leasing (NAICS 531, 533); (11) Retail Trade (NAICS 441-446, 448,451-454); (12) Contract Construction (NAICS 23); (13) Wholesale Trade (NAICS 42); (14) Other Commercial (NAICS 492, 541, 551, 561-562); (15) Transportation (NAICS 481-488); (16) Arts, Entertainment, and Recreation (NAICS 711-713); (17) Other Services (Except Public Administration) (NAICS 811-813); (18) Education (NAICS 611); (19) Petroleum Bulk Stations and Terminals (NAICS 4247); (19) Fuel Oil Dealers (NAICS 45431); (20) Hospitals & Other Health Care (NAICS 621-624); (21) Accommodation and Food Services (NAICS 721,722); (22) Fuel Oil Dealers (NAICS 45431); (23) Gasoline Stations (NAICS 4471); (24) Information Finance and Insurance (NAICS 51, 52); (25) Mining (NAICS 212, 213); (26) Warehousing and Storage (NAICS 493); (27) Pipelines (NAICS 4861, 48691); (28) Government (NAICS 92); (29) Military Installations (NAICS 928110); and (30) Religious Organizations (NAICS 813110).

Title: Spill Prevention, Control, and Countermeasure (SPCC) Plans.

ICR number: EPA ICR Number 0328.16; OMB Control Number 2050-0021.

ICR status: This ICR is currently scheduled to expire on June 30, 2013. An Agency may not conduct or sponsor, and a person is not required to respond to, a collection of information, unless it displays a currently valid OMB control number. The OMB control numbers for EPA's regulations in title 40 of the CFR, after appearing in the Federal Register when approved, are listed in 40 CFR Part 9, are displayed either by publication in the Federal Register or by other appropriate means, such as on the related collection instrument or form, if applicable. The display of OMB control numbers in certain EPA regulations is consolidated in 40 CFR Part 9.

Abstract: The authority for EPA's oil pollution prevention requirements is derived from section 311(j)(1)(C) of the Clean Water Act, as amended by the Oil Pollution Act of 1990. EPA's regulation is codified at 40 CFR 112. An SPCC Plan will help an owner or operator identify the necessary procedures, equipment and resources to respond to prevent an oil spill and to respond to an oil spill in a timely manner. If implemented effectively, the SPCC Plan is expected to prevent oil spills and reduce the impact and severity of oil spills. Although the owner or operator is the primary data user, EPA may also require the owner or operator to submit data to the Agency in certain situations to ensure facilities comply with the SPCC regulation and to help allocate response resources. State and local governments may use the data, which are not generally available elsewhere and can assist local emergency preparedness planning efforts. EPA does not require an owner or operator to submit SPCC Plans, but may request the SPCC Plan during a facility inspection or an oil spill incident for review. The SPCC regulation requires the owner or operator maintain a complete copy of the Plan at the facility if the facility is normally attended at least fours hours per day or at the nearest field office if the facility is not so attended. The rule also requires that the Plan be available to the Regional Administrator for on-site review during normal working hours (40 CFR Part 112.3(e)).

SPCC Plan Preparation. Under section 112.3(a) or (b), the owner or operator or onshore or offshore facility subject to this section must prepare in writing and implement an SPCC Plan in accordance with section 112.7 and any other applicable sections in the regulation. Part 112.7 requires that the Plan be prepared in accordance with good engineering practices. The section also requires the Plan have the full approval of management at a level of authority to commit the necessary resources to fully implement the Plan. Specific provisions in this section, among others, require the owner or operator to predict the direction, rate of flow and total quantity of oil which could be discharged from the facility as result of each type of major equipment failure (§ 112.7(b)); provide for appropriate containment and/or diversionary structures or equipment to prevent a discharge (§ 112.7(c)); provide for PE certification or a qualified facility certification (§ 112.7(d)); and conduct inspections and tests and maintain records (§ 112.7(e)).

Plan Certification. Under section 112.3(d), a SPCC Plan must, except as provided by 40 CFR Part 112.6 Qualified Facilities Plan Requirements, be reviewed and certified by a licensed Professional Engineer (PE) for it to be effective to satisfy the requirements. Under section 112.6, the owner or operator of a qualified facility may self certify the Plan if the facility meets the eligibility criteria in section 112.3(g).

SPCC Plan Maintenance. Under section 112.5, the owner or operator must complete a review and evaluation of the SPCC Plan at least once every five years from the date the facility becomes subject to part 112, or if the facility was in operation on or before August 16, 2002, five years from the date the last review. As a result of this review and evaluation, the owner or operator must amend the Plan within six months of the review to include more effective prevention and control technology if the technology has been field-proven at the time of the review and will significantly reduce the likelihood of a discharge of oil.

Recordkeeping. Under section 112.7(e), an owner or operator must conduct inspections, tests, and maintain records. The inspections and tests must be conducted in accordance with written procedures the facility or the certifying engineer developed for the facility. The written procedures and a record of the inspections and tests must be signed by the appropriate supervisor or inspector and kept with the SPCC Plan for a period of three years. Records of inspections and tests may be kept under usual and customary business practices.

Number of Regulated Facilities. At the time OMB approved the current ICR (June 15, 2010), EPA estimated that there were approximately 640,000 SPCC regulated facilities in 2010. The largest sectors in 2010 were oil and gas production with 215,000 affected facilities and farms with 149,000 affected facilities. As part of the regulatory impact analysis for the 2008 and 2009 SPCC amendments, EPA analyzed the growth rates for each industrial sector covered by the regulations. For this ICR, EPA applied those growth rates for the next ICR period. For some sectors, the growth rate for the number of facilities was negative: for example, the farm sector experienced a reduction in affected facilities. For other sectors such as oil and gas production sector, the growth rate for the number of affected facilities increased. For the growth rates for all sectors, EPA estimates there would be approximately 657,000 SPCC regulated facilities in 2014 up from 640,000 in 2010; approximately 670,000 SPCC regulated facilities in 2015; and approximately 683,000 facilities in 2016.

Burden Statement: The average annual reporting and recordkeeping burden for this collection of information on a newly regulated facility for which a SPCC Plan is required (i.e., first-year costs for plan development) is estimated to be approximately 58 hours per year. The average annual reporting and recordkeeping burden on a regulated facility for which the owner or operator is maintaining an SPCC Plan is estimated at approximately 11 hours per year. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR supporting statement provides a detailed explanation of the Agency's estimate, which is only briefly summarized here:

Estimated total number of potential respondents: 663,000.

Frequency of response: Less than once per year.

Estimated total annual burden hours: 8,700,000 hours.

Estimated total annual costs: $987,000,000, which includes $183,000,000 annualized capital and operation and maintenance (O&M) costs.

Are there changes in the estimates from the last approval?

EPA estimates no substantive change in the total estimated respondent burden compared with that identified in the ICR currently approved by OMB. This conclusion is based on EPA's current estimate of facilities that have written and are maintaining an SPCC Plan in compliance with 40 CFR Part 112. EPA amended the SPCC regulation to exempt milk and milk product containers since the last ICR renewal that results in a small reduction in the number regulated facilities and savings in terms of total labor hours and total cost burden. The agency also extended the compliance date for farms, but that regulatory action does not affect the number of facilities, labor hours and cost burden.

What is the next step in the process for this ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: December 11, 2012.
Dana S. Tulis,
Acting Director, Office of Emergency Management.

[FR Doc. 2012-30359 Filed 12-14-12; 8:45 am]

BILLING CODE 6560-50-P